DEPARTMENT OF DEFENSE

48 CFR Part 252

[DFARS Case 2005-D007]

Defense Federal Acquisition Regulation Supplement: Training for Contractor Personnel Interacting With Detainees

Correction

In In rule document 05-17347 beginning on page 52032 in the issue of Thursday, September 1, 2005, make the following corrections:

252.212-7001 [Corrected]

1. On page 52034, in the first column, in section 252.212-7001(b), in 252.237-7019, in the second line, “(AUG)” should read “(SEPT)”.

2. On the same page, in the same column, in section 252.212-7001(c), in 252.237-7019, in the second line, “(AUG)” should read “(SEPT)”.

[FR Doc. C5-17347 Filed 9-8-05; 8:45 am]

BILLING CODE 1505-01-D